DEPARTMENT OF ENERGY

Federal Energy Regulatory Commission

[Project No. 2425-057]

PE Hydro Generation, LLC; Notice of Application Accepted for Filing and Soliciting Motions To Intervene and Protests

Take notice that the following hydroelectric application has been filed with the Commission and is available for public inspection.

a. Type of Application: New Major License.

b. Project No.: 2425-057.

c. Date filed: January 3, 2022.

d. Applicant: PE Hydro Generation, LLC.

e. Name of Project: Luray and Newport Hydroelectric Project.

f. Location: The two-development Luray and Newport Project is located on the South Fork of the Shenandoah River near the Towns of Luray (Luray Development) and Newport (Newport Development) in Page County, Virginia.

g. Filed Pursuant to: Federal Power Act 16 U.S.C. 791(a)-825(r).

h. Applicant Contact: Ms. Jody Smet, Vice President, Regulatory Affairs, PE Hydro Generation, LLC, 7315 Wisconsin Ave., Suite 1100W, Bethesda, MD 20814; Phone at (804) 382-1764 or email at jody.smet@eaglecreekre.com.

i. FERC Contact: Kristine Sillett at (202) 502-6575, or kristine.sillett@ferc.gov.

j. Deadline for filing motions to intervene and protests: 60 days from the issuance date of this notice.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Luray and Newport Project (P-2425-057).

k. This application has been accepted but is not ready for environmental analysis.

l. The Luray Development consists of: (1) a 21.9-foot-high, 530-foot-long reinforced concrete dam; (2) a 126-acre impoundment with a storage capacity of 880 acre-feet; (3) a 100-foot-long, 27.5-foot-wide powerhouse, adjacent to the south end of the dam, containing three generating units having a total installed capacity of 1,600 kW; (4) 35-foot-long, 2.4-kilovolt (kV) project generator lines; (5) a substation containing a 3-phase, 2.4/34.5-kV transformer where interconnection with the grid occurs; and (6) other appurtenances.

The Newport Development consists of: (1) a 28.8-foot-high, 443-foot-long reinforced concrete dam; (2) a 103-acre impoundment with a storage capacity of 1,090 acre-feet; (3) a 73.5-foot-long, 21.2-foot-wide powerhouse adjacent to the north end of the dam, with three Francis turbine/generating units with a total installed capacity of 1,400 kW; (4) 150-foot-long, 2.4-kilovolt (kV) project generator lines; (5) a substation containing a 3-phase, 2.4/34.5-kV transformer where interconnection with the grid occurs; and (5) other appurtenances.

Both developments operate in run-of-river mode with minimum flows of 47 cubic feet per second (cfs) and 40 cfs, at the Luray and Newport Developments, respectively. The project had an average annual generation of 10,928 megawatt-hours between 2011 and 2016.

m. In addition to publishing the full text of this document in the Federal Register, the Commission provides all interested persons an opportunity to view and/or print the contents of this document via the internet through the Commission's Home Page (http://www.ferc.gov) using the “eLibrary” link. Enter the docket number, excluding the last three digits in the docket number field to access the document. For assistance, contact FERC at FERCOnlineSupport@ferc.gov, or call (886) 208-3676 (toll free) or (202) 502-8659 (TTY).

You may also register online at http://www.ferc.gov/docs-filing/esubscription.asp to be notified via email of new filings and issuances related to this or other pending projects. For assistance, contact FERC Online Support. The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595, or OPP@ferc.gov.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Request Additional Information—February 2024

Issue Notice of Ready for Environmental Analysis—April 2024

Dated: February 20, 2024.
Debbie-Anne A. Reese,
Acting Secretary.

[FR Doc. 2024-03932 Filed 2-26-24; 8:45 am]

BILLING CODE 6717-01-P